DEPARTMENT OF COMMERCE

National Telecommunications and Information Administration

Agency Information Collection Activities; Proposed Information Collection; Comment Request; Broadband Availability Data

AGENCY: National Telecommunications and Information Administration, Commerce.

ACTION: Notice.

SUMMARY: The U.S. Department of Commerce, as part of its continuing effort to reduce paperwork and respondent burden, invites the general public and other Federal agencies to take this opportunity to comment on the proposed information collection, as required by the Paperwork Reduction Act of 1995.

DATES: Written comments must be submitted on or before December 24, 2018.

ADDRESSES: Direct all written comments to Jennifer Jessup, Departmental Paperwork Clearance Officer, Department of Commerce, (202) 482-0336, Department of Commerce, Room 6612, 1401 Constitution Avenue NW, Washington, DC 20230 (or via email at docpra@doc.gov).

FOR FURTHER INFORMATION CONTACT: Requests for additional information or copies of the information collection instruments and instructions should be sent to Andrew Spurgeon, Chief of Operations, Office of Telecommunications and Information Applications, National Telecommunications and Information Administration, U.S. Department of Commerce, 1401 Constitution Avenue NW, Room 4887, Washington, DC 20230 (or via email at aspurgeon@ntia.doc.gov).

SUPPLEMENTARY INFORMATION:

I. Abstract

The Consolidated Appropriations Act of 2018 directed NTIA to update the national broadband availability map in coordination with the Federal Communications Commission (FCC) and the states.¹ Specifically, Congress directed NTIA to acquire and display available third-party data sets to the extent it is able to negotiate its inclusion to augment data from the FCC, other federal government agencies, state government, and the private sector.² The objective of these updates is to identify regions of the country with insufficient broadband capacity, particularly in rural areas.

¹ Consolidated Appropriations Act of 2018, Public Law 115-141, Division B, Title I, 132 Stat. 348.

² Joint Explanatory Statement, 164 Cong. Rec. No. 50—Book II, at H2084-85 (Mar. 22, 2018).

Presently, the only source of nationwide broadband availability data is that collected from broadband service provider responses to the FCC Form 477 Fixed Broadband Deployment data process. Form 477 data are submitted by voice and broadband telecommunications service providers semi-annually and include information on the services each provider offers, at the Census block level.³ While the Census block system provides a very high level of geographic granularity overall—the United States is divided into over 11 million blocks, 95 percent of which do not exceed 1 square mile in land area—it is possible that broadband availability may vary within a single block, (which is most common in rural areas). Additionally, broadband service providers who wish to share more granular data on broadband availability—including regulated and non-regulated entities—have no mechanism to do so. Further, a broadband service provider offering service to any homes or businesses in a Census block is instructed to report that block as served in its Form 477 filing, even though it may not offer broadband services in most of the block. This can lead to overstatements in the level of broadband availability, especially in rural areas where Census blocks are large or when services are only available near the boundaries of a Census block.

³ “All facilities-based broadband providers are required to file data with the FCC twice a year (Form 477) on where they offer internet access service at speeds exceeding 200 kbps in at least one direction.” See https://www.fcc.gov/general/broadband-deployment-data-fcc-form-477.

As a result of these constraints, NTIA intends to collect broadband availability data at a more granular level than that available via the FCC Form 477 process. This data will be used to better assess broadband availability across the country and particularly in rural areas. This information collection covers the 50 states, the District of Columbia, the Commonwealth of Puerto Rico, the Island Areas of American Samoa, the Commonwealth of the Northern Mariana Islands, Guam, and the United States Virgin Islands.

NTIA intends to collect this information from two types of respondents that collect broadband data with more geographic granularity than the Census block level: (1) Owners and operators of broadband networks; and (2) industry associations, data aggregators, and researchers that study or analyze broadband availability. Respondents may include private companies, non-profits, cooperatives, educational institutions, tribal governments, and local, regional, or state governments. This information collection includes the use of both wireline and wireless technologies to deliver broadband services.

The data to be collected includes geographic information on service availability—such as address, address range, road centerline, land-parcel identification, or latitude/longitude—and corresponding broadband availability data (such as technology service type, upload and download speed, etc.). Data in a Geographic Information Systems (GIS) format that describe (a) wireless coverage areas based on a propagation model and (b) network infrastructure (such as fiber optic routes) is also responsive.

NTIA will not require that respondents modify appropriate data sets, with the exception that Personally Identifiable Information (PII) should be removed prior to transmission to NTIA. Data collection operations will result in respondent burden during: (1) Efforts to assemble their data for transmission to NTIA; (2) removal of PII; and (3) NTIA communications with respondent contacts to ensure NTIA correctly understands the data.

II. Method of Collection

The information collection will be administered through an online file transfer tool.

III. Data

OMB Control Number: None.

Form Number(s): None.

Type of Review: Regular submission.

Affected Public: Owners and operators of broadband networks, industry associations, data aggregators, and researchers.

Frequency: Annual.

Number of Respondents: 600.

Average Time per Response: 8 hours.

Estimated Total Annual Burden Hours: 4,800 hours.

Estimated Total Annual Cost to Public: $200,832.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Sheleen Dumas,
Departmental Lead PRA Officer, Office of the Chief Information Officer.

[FR Doc. 2018-23296 Filed 10-24-18; 8:45 am]

BILLING CODE 3510-60-P